DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Southeast Region Permit Family of Forms.

OMB Control Number: 0648-0205.

Form Number(s): None.

Type of Request: Regular (revision of a currently approved information collection).

Number of Respondents: 13,909.

Average Hours per Response: Vessel and dealer permit applications, 29 minutes each; wreckfish permit applications, live rock permit applications and operator card applications, 21 minutes each.

Burden Hours: 7,023.

Needs and Uses: This request is for a revision to the existing reporting requirements. The SERO Permits Office (Southeast Permits Office) administers Federal fishing permits in the Gulf of Mexico (Gulf), South Atlantic, and Caribbean Sea under the authority of the Magnuson-Stevens Fishery Conservation and Management Act, 16 U.S.C. 1801. The Southeast Permits Office proposes to revise two parts of the collection-of-information approved under OMB Control Number 0648-0205.

The Southeast Permits Office proposes to collect additional information on five applications for economic analysis and for purposes of notifying respondents. These data include race, sex, and business type and ownership information, as well as email addresses and the option to provide cellular contact information for digital notifications. The revision will also include a small business certification section, so NMFS can determine if the respondent is a small or large business according to standards established by the Small Business Administration. These proposed revisions will not change the current cost burden but will increase the annual time burden for respondents.

Currently, NMFS requires fishermen (respondents) to display one adhesive decal on their vessel indicating that they have a Federal fishing permit in at least one of two Gulf fisheries; the applicable permits are the Charter Vessel/Headboat Permit for Gulf Reef Fish, the Charter Vessel/Headboat Permit for Gulf Coastal Migratory Pelagic fish, and their respective Historical Captain endorsements. NMFS proposes to revise OMB Control Number 0648-0205 to split the single decal covering both fisheries into two decals, with one decal administered with each specific fishery permit or endorsement. In addition, this revision also addresses a new fee of $10 per decal to cover administrative costs, as required by NOAA Finance Handbook, Exhibit 9-1. The Federal Permit Application for Vessels Fishing in the Exclusive Economic Zone would also be revised to reflect the new fee. The decal is currently issued at no cost to permit applicants. These decals allow individuals and law enforcement officials to easily identify vessels that have Federal permits.

Affected Public: Business or other for-profit organizations.

Frequency: Annually and on occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: March 22, 2016.
Sarah Brabson,
NOAA PRA Clearance Officer.

[FR Doc. 2016-06803 Filed 3-24-16; 8:45 am]

BILLING CODE 3510-22-P